ENVIRONMENTAL PROTECTION AGENCY

[FRL-7222-7]

Fuels and Fuel Additives: Removal of the Reformulated Gasoline Program From Seven Counties in Maine

AGENCY: Environmental Protection Agency (EPA).

ACTION: Notice.

SUMMARY: Today's notice announces and describes EPA's earlier approval of Maine's petition to opt-out of the federal reformulated gasoline (RFG) program. EPA's regulations, promulgated under the Clean Air Act (the Act), establish the procedures and criteria for opting out of the RFG program. In accordance with these procedures and criteria, Maine's withdrawal from the RFG program became effective as of March 10, 1999. Therefore, as of March 10, 1999, EPA no longer requires federal RFG to be sold in the seven southern counties in Maine.

DATES: The effective date for removal of Androscoggin; Cumberland; Kennebec; Knox; Lincoln; Sagadahoc; and York Counties in the State of Maine from the federal RFG program is March 10, 1999.

ADDRESSES: Materials relevant to Maine's withdrawal from the federal RFG program may be found in Docket A-2001-32. The docket is located at the Air Docket Section, Mail Code 6102, U.S. Environmental Protection Agency, 401 M Street, SW., Washington, DC 20460, in room M-1500 Waterside Mall. Documents may be inspected on business days from 8:00 a.m. to 5:30 p.m. A reasonable fee may be charged for copying docket material.

Materials are also available for public inspection during normal business hours, by appointment at the Office of Ecosystem Protection, U.S. Environmental Protection Agency, EPA-New England, One Congress Street, 11th floor, Boston, MA and the Bureau of Air Quality Control, Department of Environmental Protection, 71 Hospital Street, Augusta, ME 04333. For further information, contact Robert C. Judge at (617) 918-1045.

FOR FURTHER INFORMATION CONTACT: John Brophy, U.S. Environmental Protection Agency, Office of Air and Radiation, 1200 Pennsylvania Ave., NW (Mail Code 6406J), Washington, DC 20460, (202) 564-9068, e-mail: brophy.john@epa.gov.

SUPPLEMENTARY INFORMATION:

Availability on the Internet

Copies of this final rule are available electronically from the EPA Internet Web site. This service is free of charge, except for your existing cost of Internet connectivity. An electronic version is made available on the day of publication on the primary Internet site listed below. The EPA Office of Transportation and Air Quality will also publish this final rule on the secondary Web site listed below. http://www.epa.gov/docs/fedrgstr/EPA-AIR/ either select desired date or use Search feature) http://www.epa.gov/otaq/(look in What's New or under the specific rulemaking topic).

Please note that due to differences between the software used to develop the document and the software into which the document may be downloaded, changes in format, page length, etc. may occur.

I. Background

A. Opt-out Procedures

The process of withdrawing from the RFG program, pursuant to the regulatory provisions of 40 CFR 80.72 (the Opt-out Rule), does not require notice and comment rulemaking either under section 307(d) of the Act or under the Administrative Procedure Act. See 61 FR 35673 at 35675 (July 8, 1996). EPA established a petition process to allow case-by-case consideration of individual state requests to opt-out of the federal RFG program.¹ The Opt-out Rule establishes specific requirements regarding what information a State must submit in connection with an opt-out petition. These regulatory provisions also address when a state's petition is complete and the appropriate transition time for opting out. EPA has applied these criteria, and has approved Maine's petition for withdrawal from the RFG program, effective as of March 10, 1999.

¹ Pursuant to authority under sections 211(c) and (k) and 301(a) of the Clean Air Act, EPA promulgated regulations to provide criteria and general procedures for states to opt-out of the RFG program where the state had previously voluntarily opted into the program. The regulations were initially adopted on July 8, 1996 (61 FR 35673); and were revised on October 20, 1997 (62 FR 54552).

The Opt-out Rule requires the Governor of the state to submit a petition to the Administrator requesting to withdraw from the RFG program, along with certain information necessary for EPA to grant the petition. Finally, if the Administrator approves the petition, the Opt-out Rule requires EPA to notify the state in writing, and set an effective date for the opt-out that is no less than 90 days from the date of the written notification. The Opt-out Rule also directs EPA to publish a notice in the Federal Register announcing the approval of any opt-out petition and the effective date for removal of the state from the RFG program.

B. Maine Opt-out of RFG

Maine had participated voluntarily in the federal RFG program since it began in January 1995. By letter dated May 21, 1998, the Governor of Maine announced the state's intent to opt-out, but requested that EPA not act on the petition until the state completed certain testing and made a decision about how it would replace the emission reductions that it was relying on from reformulated gasoline.

The Opt-out Rule required states with voluntary RFG programs to decide by December 31, 1997 whether they wanted to remain in the RFG program; otherwise, these procedures require them to stay in the program through 2003.² EPA did not receive any petitions by December 31, 1997. However, EPA's procedures allowed a state to request an extension to the December 31 deadline if the state had legislation pending to opt-out of the program. In a letter to EPA dated December 1, 1997, the Governor of Maine stated that the Maine legislature was considering such legislation. Thus, EPA granted Maine an extension until May 31, 1998. By letter dated May 21, 1998, the Governor requested to withdraw from the RFG program, and met the deadline set by the Administrator. However, the Governor requested that EPA not act on the request until the state had finished certain testing.

² 40 CFR 80.72(c).

At the time of the opt out request, Maine did not rely on RFG as an element of any State Implementation Plan (SIP) or SIP revision that had been approved by the EPA. However, Maine did rely on RFG in a SIP submission that was pending before the Agency. Therefore, EPA's opt-out regulations required the State to indicate whether it would revise its pending SIP submission, and, if so, to describe the air quality measures, if any, that the State would use to replace RFG.

The Governor's May 21, 1998 petition did not identify any replacement measures for the Volatile Organic Compounds (VOC) reductions benefits of the RFG program that the state relied upon in its pending 15% SIP. However, by letter dated October 13, 1998, the Governor requested that EPA approve the petition to opt-out of the RFG program and identified two possible state fuel alternatives to replace the VOC benefits associated with RFG. The letter also noted that Maine intended to initiate rulemaking to adopt an alternative fuel before the next ozone season. EPA responded by letter dated October 30, 1998, conditionally approving the opt-out request and setting an opt-out effective date of January 28, 1999, ninety days from the date of the conditional approval. EPA made the opt-out contingent on Maine and EPA agreeing on (1) identification of the replacement fuel measure or other measure which Maine would implement in order to provide VOC reductions equivalent to RFG, (2) a projected schedule for implementing the replacement measure, and (3) an explanation of how this action affects the state implementation plan. EPA stated that it may extend the opt-out effective date in order to allow EPA and Maine to reach agreement.

Maine scheduled a hearing for January 20, 1999 to consider the two alternative fuels proposals described in the October 13, 1998 letter. EPA offered comments on the two measures at this hearing and suggested another alternative that would provide the long-term VOC reductions that Maine needed to replace RFG. By letter dated January 22, 1999, EPA gave notice to the Governor that it had extended the effective date for Maine's withdrawal from the RFG program until March 10, 1999, in order to provide time for EPA and the state to reach agreement on the conditions of the opt-out. On February 24, 1999, Maine's Board of Environmental Protection adopted the measure suggested by EPA.³ By letter dated March 5, 1999, EPA notified the Governor that all of the conditions of the opt-out had been satisfied, and that EPA would not extend the opt-out effective date any further.

³ In a final rulemaking, EPA recently approved Maine's SIP revision request, including a state fuel control, which demonstrates how the State will achieve attainment in these seven counties without RFG [67 FR 10099, March 6, 2002]. As described in EPA's approval of Maine's SIP, the revision Maine ultimately submitted to EPA includes a State fuel control that is different from, and less restrictive than, the one adopted by the State on February 24, 1999.

II. Action

In today's notice, EPA is announcing that it has approved the petition submitted by the Governor of Maine to withdraw the Maine counties of Androscoggin, Cumberland, Kennebec, Knox, Lincoln, Sagadahoc, and York from the RFG program. This notice is not itself a final agency action, but a public announcement of EPA's earlier approval of Maine's request to opt out of the RFG program. EPA's approval of Maine's petition was based on the May 21, 1998 and October 13, 1998 letters to the Administrator from the Governor of Maine, and on the regulatory provisions of 40 CFR 80.72. In accordance with the procedures set forth in § 80.72, the effective date for Maine's withdrawal is March 10, 1999. This opt-out effective date applies to retailers, wholesale purchaser-consumers, refiners, importers, and distributors. In a final rule published elsewhere in today's Federal Register, EPA is amending § 80.70(j)(5) of the RFG regulations to reflect that these seven counties in Maine are no longer covered areas in the federal RFG program.

Dated: May 23, 2002.
Christine Todd Whitman,
Administrator.

[FR Doc. 02-13978 Filed 6-3-02; 8:45 am]

BILLING CODE 6560-50-P